DEPARTMENT OF COMMERCE

National Oceanic and Atmospheric Administration

RIN 0648-XV066

Pacific Fishery Management Council; Public Meeting

AGENCY: National Marine Fisheries Service (NMFS), National Oceanic and Atmospheric Administration (NOAA), Commerce.

ACTION: Notice of public meeting.

SUMMARY: The Pacific Fishery Management Council (Pacific Council) will convene a meeting to discuss issues related to management and science of the central subpopulation of northern anchovy (CSNA). This meeting will include representatives from the Pacific Council's Coastal Pelagic Species Management Team (CPSMT), the Coastal Pelagic Species Advisory Subpanel (CPSAS), the Scientific and Statistical Committee (SSC), and the National Oceanic and Atmospheric Administration (NOAA) Southwest Fisheries Science Center (SWFSC). This meeting is open to the public.

DATES: The meeting will be held Thursday, October 3 and Friday, October 4, 2019. The meeting will begin at 8:30 a.m. each day and will continue until 5 p.m. or until business for the day has been completed.

ADDRESSES:

Meeting address: The meeting will be held in the Pacific Room of the NOAA Southwest Fisheries Science Center (SWFSC), 8901 La Jolla Shores Drive, La Jolla, CA 92037.

Council address: Pacific Fishery Management Council, 7700 NE Ambassador Place, Suite 101, Portland, OR 97220-1384.

FOR FURTHER INFORMATION CONTACT: Kerry Griffin, Pacific Council; telephone: (503) 820-2409.

SUPPLEMENTARY INFORMATION: The purpose of the meeting is to evaluate options and analyses relative to management of the CSNA, including evaluation of methods for estimating the nearshore component of the stock, options for periodic review of management reference points, and evaluation of elements related to the California Department of Fish and Wildlife/California Wetfish Producers Association aerial survey methodology. Meeting principals will be representatives of the CPSMT, CPSAS, the SSC's CPS Subcommittee, and the NOAA SWFSC.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The public listening station is physically accessible to people with disabilities. Requests for sign language interpretation or other auxiliary aids should be directed to Mr. Dale Sweetnam (dale.sweetnam@noaa.gov; (858) 546-7170) at least 10 days prior to the meeting date.

Authority: 16 U.S.C. 1801 et seq.

Dated: September 9, 2019.
Tracey L. Thompson,
Acting Deputy Director, Office of Sustainable Fisheries, National Marine Fisheries Service.

[FR Doc. 2019-19728 Filed 9-11-19; 8:45 am]

BILLING CODE 3510-22-P